DEPARTMENT OF THE TREASURY

Office of Thrift Supervision

Submission for OMB Review; Comment Request

January 23, 2001.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before March 1, 2001.

OMB Number: 1550-0075.

Form Number: Not applicable.

Type of Review: Regular.

Title: Loans to Executive Officers, Directors and Principal Shareholders of Savings Associations.

Description: The regulation requires savings association to maintain detailed records of their extensions of credit to executive officers, directors, and principal shareholders. The regulation also requires that savings associations report to the OTS all loans to executives and disclose the amount of its extensions of credit following a written request from the public. Indebtedness to correspondent banks must also be disclosed to the board of directors and made available for OTS review during examinations.

Respondents: Savings and Loan Associations and Savings Banks.

Estimated Number of Responses: 1,084.

Estimated Burden Hours Per Response: 11 hours.

Frequency of Response: Quarterly.

Estimated Total Reporting Burden: 11,924 hours.

Clearance Officer: Ralph E. Maxwell, (202) 906-7740, Office of Thrift Supervision, 1700 G Street, NW., Washington, DC 20552.

OMB Reviewer: Alexander Hunt, (202) 395-7860, Office of Management and Budget, Room 10202, New Executive Office Building, Washington, DC 20503.

John E. Werner,
Director, Information & Management Services.

[FR Doc. 01-2507 Filed 1-29-01; 8:45 am]

BILLING CODE 6720-01-P